DEPARTMENT OF HEALTH AND HUMAN SERVICES

Centers for Disease Control and Prevention

[Program Announcement 04093]

International Initiatives Related to Chronic Disease Prevention and Health Promotion; Notice of Intent To Fund Single Eligibility Award

A. Purpose

The Centers for Disease Control and Prevention (CDC) announces the intent to fund fiscal year (FY) 2004 funds for a cooperative agreement program to promote health, disseminate information, and provide expertise to prevent and control: Non-communicable diseases; mental health problems; and leading causes of death, disease, and disability through effective community health programs. This is an international program. The Catalog of Federal Domestic Assistance number for this program is 93.283.

B. Eligible Applicant

Assistance will be provided only to The World Health Organization. WHO is the only international/ intergovernmental agency qualified to conduct and coordinate surveillance and programmatic activities under this program announcement because:

1. WHO has a unique position among the world's health agencies as the technical agency for health within the United Nations.

2. WHO has access to all national health promotion and disease prevention programs and potential surveillance sites through its six regional offices located in Washington, DC; Copenhagen, Denmark; Cairo, Egypt; Congo; Delhi, India; Harare, Zimbabwe and Manila, Philippines. No other organization has this access.

3. WHO is uniquely qualified to conduct and coordinate the surveillance activities, policy and programmatic initiatives that have specific relevance to the objectives of this program announcement and which have the potential to advance knowledge that benefits the United States (U.S.).

4. WHO collaborates with other international organizations and works to accomplish its mission by coordinating programmatic and surveillance initiatives, disseminating information related to chronic disease program needs and services, recommending and advocating improved policies and programs. They provide consultation and guidance at the international, national, and local level for systems of coordinated care for persons with chronic or disabling conditions.

5. WHO also collaborates with other international organizations and works to accomplish its mission by coordinating surveillance initiatives, and by disseminating information and expertise at the international, national, and local level for effective health programs.

6. WHO offers special opportunities for furthering surveillance programs through the use of unique talent resources, populations, or environmental conditions in other countries that are not readily available in the United States or that provide augmentation of existing U.S. resources.

7. WHO works to accomplish its mission by coordinating monitoring and programmatic initiatives, and disseminating information and expertise related to effective community-based interventions that help to reduce the leading causes of death, disease and disability among adults (i.e., cardiovascular disease, diabetes, tobacco use, physical inactivity, and poor dietary habits). It recommends and advocates for improved national and local health policies and programs, and provides consultation and guidance to address serious health problems among adults.

C. Funding

Approximately $1,610,000 is available in FY 2004 to fund this award. It is expected that the award will begin on or before August 15, 2004, and will be made for a 12-month budget period within a project period of up to 5 years. Funding estimates may change.

D. Where to Obtain Additional Information

For general comments or questions about this announcement, contact: Technical Information Management, CDC Procurement and Grants Office, 2920 Brandywine Road, Atlanta, GA 30341-4146, Telephone: 770-488-2700.

For technical questions about this program, contact: Mary Hall, MS K40, 4770 Buford Hwy, NE., Atlanta, GA 30341, Telephone: 770-488-5644, E-mail: moh4@cdc.gov.

Dated: June 1, 2004.
William P. Nichols,
Acting Director, Procurement and Grants Office, Centers for Disease Control and Prevention.

[FR Doc. 04-12781 Filed 6-4-04; 8:45 am]

BILLING CODE 4163-18-P